DEPARTMENT OF HEALTH AND HUMAN SERVICES

Administration for Children and Families

Submission for OMB Review; Comment Request

Title: Application Requirements for the Low Income Home Energy Assistance Program (LIHEAP) Plan

OMB No.: 0970-0075

Description: In order to receive federal LIHEAP funds, States, the District of Columbia, tribes, tribal organizations, and territories applying for LIHEAP block grant funds must first submit an annual application (Plan) that meets the LIHEAP statutory and regulatory requirements. In prior years, each grantee was also required to submit a Program Integrity Assessment Supplement (PIAS) annually with their Plan. The proposed revised Plan will combine the content of these two forms into one form, eliminating duplicative questions and streamlining the submission process. The proposed revised Plan will become an electronic form, to be submitted through the On-Line Data Collection System (OLDC), which is already being used by all LIHEAP grantees to submit other required ACF forms such as the SF-425 Federal Financial Report. The revised Plan will also provide grantees the option to respond to many questions by selecting one or more check-box responses, rather than providing a free-form text response. Grantees will still have the ability to enter free form text if none of the provided options are applicable. This is particularly true of the questions from the Program Integrity Assessment which had previously been all open-ended questions which resulted in inconsistent interpretation by grantees of the information sought and prevented ACF from analyzing programs nationwide in a consistent manner. This new re-formatting will also reduce the time grantees will spend on completing the form. It will also provide the Office of Community Services (OCS) with the ability to collect and analyze consistent data across all grantees in a streamlined manner. This will improve the information provided by ACF in the annual LIHEAP Report to Congress and other related reports to the U.S. Department of Health and Human Services and the Office of Management and Budget.

Grantees will no longer have the option of submitting their annual application by mail or other methods. This will reduce lost submissions. The electronic system also has data validation checks programmed to minimize incomplete submissions which reduce time by federal and grantee staff in revising submissions. Additionally, grantees will no longer have the option to submit an abbreviated Plan. All entries from each grantee's first submission of the Plan in OLDC will be saved and pre-populated into the form for the following fiscal year's application. Thus, after the first year, grantees will only need to make updates to the prior year's entries, as needed. The system will flag updated data which will reduce the time federal staff spend in reviewing Plans and communicating with grantees about their submission. Grantees will still be able to submit attachments as needed.

Presidential Executive Order 13520, reducing Improper Payments and Eliminating Waste in Federal Programs, issued in November 2009, encourages federal agencies to take deliberate and immediate action to eliminate fraud and improper payments. As part of the review of programs subsequent to this executive order, HHS has determined that additional information from each administering agency is necessary to assess grantee measures that are in place to prevent, detect or address waste, fraud and abuse in LIHEAP programs. This Plan incorporates the data ACF must report to HHS regarding program integrity issues such as fraud prevention controls.

On January 27, 2014, ACF published a Federal Register Notice seeking 60 days of public comment on this proposed information collection. One state grantee provided comments. ACF revised the Plan to address the comments by ensuring that open field boxes and attachment capability are available if the answer choices are insufficient to address the questions.

The revised model plan can be viewed on the OCS Web site at: http://www.acf.hhs.gov/programs/ocs/programs/liheap.

Respondents: State, tribal and territory governments.

Aunual Burden Estimates
Instrument | Number of respondents | Number of responses per respondent | Average burden hours per response | Total burden hours
Plan (First year-FY 2015) | 210 | 1 | 2 | 420
Plan (future years) | 210 | 1 | 0.50 | 105

Estimated Total Annual Burden Hours: First year—420; Future years—105.

Additional Information:

Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2014-09316 Filed 4-23-14; 8:45 am]

BILLING CODE 4184-01-P